DEPARTMENT OF THE INTERIOR

Fish and Wildlife Service

[FWS-R4-ES-2012-N092; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by May 31, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-66439A

Applicant: Atlanta Botanical Garden, Atlanta, Georgia

Applicant requests authorization to collect seeds from Trillium reliquum (relict trillium) for the purpose of seed banking and propagation. This activity will be conducted on Fort Benning Military Base, Columbus, Georgia.

Permit Application Number: TE-237537

Applicant: Missouri Botanical Garden, St. Louis, Missouri

Applicant requests authorization to collect seeds from the following plant species:

Arenaria cumberlandensis Cumberland sandwort

Astragalus bibullatus Guthries ground plum

Solidago albopilosa White-haired Goldenrod

Xyris tennesseensis Tennessee yellow-eyed grass

This project will take place on Federal properties in Alabama, Tennessee, Kentucky, Illinois, Missouri, Virginia and West Virginia.

Permit Application Number: TE-148282

Applicant: Jack Wilhide, Chapmanville, West Virginia

Applicant requests reauthorization to conduct presence/absence surveys on the following species:

Indiana bat Myotis sodalis

Gray bat Myotis grisescens

Virginia big-eared bat Corynorhinus townsendii virginianus

Ozark big-eared bat Corynorhinus townsendii ingens

These surveys will be conducted in West Virginia, Virginia, Tennessee, Kentucky, North Carolina and Arkansas.

Permit Application Number: TE-67142A

Applicant: Woodson Asher, Mancherster, Kentucky

Applicant requests reauthorization to conduct presence/absence surveys on the following species:

Indiana bat Myotis sodalis

Gray bat Myotis grisescens

Virginia big-eared bat Corynorhinus townsendii virginianus

These surveys will be conducted throughout the species ranges.

Permit Application Number: TE-67464A

Applicant: Irene Liu, Duke University, Durham, North Carolina

Applicant requests authorization to monitor nests, capture, band, draw blood and conduct laparotomies on yellow-shouldered blackbirds (Agelaius xanthomus) in Puerto Rico.

Permit Application Number: TE-108990

Applicant: Ronald Spears, Centennial, Colorado

Applicant requests reauthorization to conduct presence/absence surveys on the following species:

Indiana bat Myotis sodalis

Gray bat Myotis grisescens

Mexican long-nosed bat Leptonycteris nivalis

Lesser long-nosed bat Leptonycteris curasoae

These surveys will be conducted throughout the species ranges.

Permit Application Number: TE-88889

Applicant: The Nature Conservancy.

Applicant requests renewed authorization to capture, band, translocate and install artificial nesting cavities for the red-cockaded woodpecker (Picoides borealis) on the Disney Preserve in Osceola and Polk Counties, Florida.

Permit Application Number: TE-156392

Applicant: Skybax Ecological Services, Berea, Kentucky

Applicant requests reauthorization to conduct scientific studies and surveys on the following species:

Indiana bat Myotis sodalis

Gray bat Myotis grisescens

Virginia big-eared bat Corynorhinus townsendii virginianus

These surveys will be conducted throughout the species ranges.

Dated: April 11, 2012.
Jacquelyn B. Parrish,
Acting Regional Director.

[FR Doc. 2012-10430 Filed 4-30-12; 8:45 am]

BILLING CODE 4310-55-P